Title 3—

The President

Presidential Determination No. 2016-02 of November 13, 2015

Distribution of Department of Defense Funded Humanitarian Assistance in Syria

Memorandum for the Secretary of Defense

By the authority vested in me as President by the Constitution and the laws of the United States, including section 2249a(b)(1)(B) of title 10, United States Code, I hereby:

Determine that section 2249a(a) of title 10, United States Code, would impede the distribution of urgently needed humanitarian assistance in Syria to alleviate the current refugee crisis, as well as other United States Government objectives in the Middle East for stability and humanitarian relief; and

Waive the prohibition in section 2249a(a) of title 10, United States Code, for humanitarian reasons and to the extent necessary to allow the Department of Defense to carry out the purposes of section 2561 of title 10, United States Code, for the distribution of humanitarian assistance into Syria.

You are authorized and directed to publish this determination in the Federal Register.

THE WHITE HOUSE,

Washington, November 13, 2015

[FR Doc. 2015-29569

Filed 11-17-15; 8:45 am]

Billing code 5000-04-P